DEPARTMENT OF COMMERCE

Foreign-Trade Zones Board

[B-33-2024]

Foreign-Trade Zone 75; Application for Expansion of Subzone 75C; Intel Corporation; Phoenix, Arizona

An application has been submitted to the Foreign-Trade Zones (FTZ) Board by the City of Phoenix, grantee of FTZ 75, requesting an expansion of Subzone 75C on behalf of Intel Corporation. The application was submitted pursuant to the provisions of the Foreign-Trade Zones Act, as amended (19 U.S.C. 81a-81u), and the regulations of the FTZ Board (15 CFR part 400). It was formally docketed on June 13, 2024.

The applicant is requesting authority to expand the subzone to include a new site located at 3929 West Lower Buckeye Road, Phoenix (Site 6—1.7 acres).

In accordance with the FTZ Board's regulations, Qahira El-Amin of the FTZ Staff is designated examiner to review the application and make recommendations to the FTZ Board.

Public comment is invited from interested parties. Submissions shall be addressed to the FTZ Board's Executive Secretary and sent to: ftz@trade.gov. The closing period for their receipt is July 30, 2024. Rebuttal comments in response to material submitted during the foregoing period may be submitted during the subsequent 15-day period to August 14, 2024.

A copy of the application will be available for public inspection in the “Online FTZ Information Section” section of the FTZ Board's website, which is accessible via www.trade.gov/ftz.

For further information, contact Qahira El-Amin at Qahira.El-Amin@trade.gov.

Dated: June 14, 2024.
Elizabeth Whiteman,
Executive Secretary.

[FR Doc. 2024-13451 Filed 6-18-24; 8:45 am]

BILLING CODE 3510-DS-P